COMMITTEE FOR THE IMPLEMENTATION OF TEXTILE AGREEMENTS

Determination Under the Textile and Apparel Commercial Availability Provision of the Dominican Republic-Central America-United States Free Trade Agreement (“CAFTA-DR”)

AGENCY: The Committee for the Implementation of Textile Agreements.

ACTION: Determination to add a product in unrestricted quantities to Annex 3.25 of the CAFTA-DR.

SUMMARY: The Committee for the Implementation of Textile Agreements (“CITA”) has determined that certain 100% man-made fiber high pile fleece fabric (the “subject product”), as specified below, is not available in commercial quantities in a timely manner in the CAFTA-DR countries. The subject product will be added to the list in Annex 3.25 of the CAFTA-DR in unrestricted quantities.

DATES: Applicable Date: August 27, 2024.

ADDRESSES: https://otexaprod.trade.gov/otexacapublicsite/requests/cafta under “Approved Requests,” File Number: CA2024003.

FOR FURTHER INFORMATION CONTACT: Laurie Mease, Office of Textiles and Apparel, U.S. Department of Commerce, (202) 482-2043 or Laurie.Mease@trade.gov.

SUPPLEMENTARY INFORMATION:

Authority: The CAFTA-DR; Section 203(o)(4) of the Dominican Republic-Central America-United States Free Trade Agreement Implementation Act (“CAFTA-DR Implementation Act”), Public Law 109-53; the Statement of Administrative Action accompanying the CAFTA-DR Implementation Act; and Presidential Proclamation 7987 (February 28, 2006).

Background: The CAFTA-DR provides a list in Annex 3.25 for fabrics, yarns, and fibers that the Parties to the CAFTA-DR have determined are not available in commercial quantities in a timely manner in the territory of any Party. The CAFTA-DR provides that this list may be modified pursuant to Article 3.25.4 and 3.25.5, when the United States determines that a fabric, yarn, or fiber is not available in commercial quantities in a timely manner in the territory of any Party. See Annex 3.25 of the CAFTA-DR; see also section 203(o)(4)(C) of the CAFTA-DR Implementation Act.

The CAFTA-DR Implementation Act requires the President to establish procedures governing the submission of a request and providing opportunity for interested entities to submit comments and supporting evidence before a commercial availability determination is made. In Presidential Proclamation 7987, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to the CAFTA-DR (Modifications to Procedures for Considering Requests Under the Commercial Availability Provision of the Dominican Republic-Central America-United States Free Trade Agreement, 73 FR 53200) (“CITA's procedures”).

On June 25, 2024, CITA received a commercial availability request (“Request”) from VF Corp. (“VF”) for certain 100% man-made fiber high pile fleece fabric, as specified below. On June 27, 2024, in accordance with CITA's procedures, CITA notified interested parties of the Request, which was posted on the dedicated website for CAFTA-DR commercial availability proceedings. In its notification, CITA advised that any Response with an Offer to Supply (“Response”) must be submitted by July 10, 2024, and any Rebuttal to a Response (“Rebuttal”) must be submitted by July 16, 2024, in accordance with sections 6 and 7 of CITA's procedures.

Based on a request from an interested entity, and in accordance with Section 6(a) of CITA's procedures, CITA extended the Response deadline by two business days, through July 12, 2024. Correspondingly, the Rebuttal deadline was extended by two business days, through July 18, 2024.

On July 10, 2024, Draper Knitting Company, Inc. (“Draper”) submitted a Response to the pending Request. On July 18, 2024, VF submitted a Rebuttal to Draper's Response.

In accordance with Section 203(o)(4) of the CAFTA-DR Implementation Act, Article 3.25 of the CAFTA-DR, and section 8(c)(4) of CITA's procedures, because there was insufficient information on the record to make a determination within 30 business days regarding the ability of a CAFTA-DR supplier to supply the subject product based on the submitted information, CITA extended the period to make a determination by 14 U.S. business days. Further, in accordance with section 8(c)(4)(i) of its procedures, CITA called for a public meeting on August 5, 2024 with representatives of VF and Draper to provide the companies with an opportunity to submit additional evidence to substantiate their claims regarding Draper's capability to supply the subject product, or one substitutable, in commercial quantities in a timely manner.

Section 203(o)(4)(C)(ii) of the CAFTA-DR Implementation Act provides that after receiving a request, a determination will be made as to whether the subject product, or one substitutable, is available in commercial quantities in a timely manner in the CAFTA-DR countries. In the instant case, the information on the record indicates that VF made significant efforts to source the subject product, a warp knit fleece fabric, in the CAFTA-DR region. Draper offered to supply a circular weft knit sliver pile fabric, which it argued is substitutable for the subject product. CITA finds that the information on the record does not support Draper's claim that the fabric it offered to supply is, in fact, substitutable for the subject product. Therefore, in accordance with Section 203(o) of the CAFTA-DR Implementation Act and CITA's procedures, as no interested entity has substantiated its ability to supply the subject product or one substitutable in commercial quantities in a timely manner, CITA has determined to add the subject product to the list in Annex 3.25 of the CAFTA-DR.

The subject product has been added to the list in Annex 3.25 of the CAFTA-DR in unrestricted quantities. A revised list has been posted on the dedicated website for CAFTA-DR Commercial Availability proceedings, at https://otexaprod.trade.gov/otexacapublicsite/shortsupply/cafta.

Specifications: Certain 100% Man-Made Fiber High Pile Fleece Fabric

HTS: 6001.22.

Fabric Type: Fleece.

Fiber Content: 100% man-made (polyester) fiber.

Construction: Warp knit (2 threads).

Gauge: 20gg-31gg.

Yarn Size: Various.

Warp Count: 40 to 53 per cm.

Fabric Weight: 284 to 385 grams per square meter.

Finishing Processes: Brush face and back.

Performance Requirements:

AATCC 135 Dimensional stability 6*6 maximum

ASTMD 3786 Bursting 50 minimum

AATCC 8 Colorfastness to crocking 2.0 to 4.0

DIN 53160 Colorfastness to saliva 4.5 minimum

Other: Pile height minimum 5mm.

Remarks: The specifications for the fabric apply to the fabric itself prior to cutting and sewing of the finished garment. Such processing may alter the measurements.

Paul Morris,
Acting Chairman, Committee for the Implementation of Textile Agreements.

[FR Doc. 2024-19063 Filed 8-28-24; 8:45 am]

BILLING CODE 3510-DR-P